DEPARTMENT OF COMMERCE

International Trade Administration

[A-122-857]

Certain Softwood Lumber Products From Canada: Final Results of Antidumping Duty Administrative Review, Partial Rescission of Administrative Review, and Final Determination of No Shipments; 2022

AGENCY: Enforcement and Compliance, International Trade Administration, Department of Commerce.

SUMMARY: The U.S. Department of Commerce (Commerce) determines that producers and/or exporters subject to this administrative review made sales of subject merchandise at less than normal value during the period of review (POR), January 1, 2022, through December 31, 2022.

DATES: Applicable August 19, 2024.

FOR FURTHER INFORMATION CONTACT: Jeff Pedersen and Maisha Cryor, Office IV, Enforcement and Compliance, International Trade Administration, U.S. Department of Commerce, 1401 Constitution Avenue NW, Washington, DC 20230; telephone: (202) 482-2769 and (202) 482-5831, respectively.

SUPPLEMENTARY INFORMATION:

Background

Commerce published the Preliminary Results on February 6, 2024.¹ This review covers 243 producers/exporters of subject merchandise, including two mandatory respondents, Canfor and West Fraser.² The final weighted-average dumping margins are listed below in the “Final Results of Review” section of this notice. Commerce conducted this administrative review in accordance with section 751(a) of the Tariff Act of 1930, as amended (the Act). For a detailed description of the events that occurred since the Preliminary Results, see the Issues and Decision Memorandum.³

¹ See Certain Softwood Lumber Products from Canada: Preliminary Results of Antidumping Duty Administrative Review, 89 FR 8156 (February 6, 2024) (Preliminary Results), and accompanying Preliminary Decision Memorandum (PDM).

² As described in the Preliminary Results PDM, we have treated West Fraser Mills Ltd., Blue Ridge Lumber Inc., Manning Forest Products Ltd., and Sundre Forest Products Inc. (collectively, West Fraser) and we have treated Canfor Corporation, Canadian Forest Products Ltd., and Canfor Wood Products Marketing Ltd., Canfor Fox Creek Ltd. and Canfor Whitecourt Ltd. (collectively, Canfor) as a single entities. See Preliminary Results PDM at 5-6.

³ See Memorandum, “Issues and Decision Memorandum for the Final Results of the 2022 Administrative Review of the Antidumping Duty Order on Certain Softwood Lumber Products from Canada,” dated concurrently with, and hereby adopted by, this notice (Issues and Decision Memorandum).

Scope of the Order

The product covered by this review is softwood lumber from Canada. For a full description of the scope, see the Issues and Decision Memorandum.

Partial Rescission of Administrative Review

Pursuant to 19 CFR 351.213(d)(1), Commerce will rescind an administrative review, in whole or in part, if the party that requested a review withdraws its request within 90 days of the date of publication of the notice of initiation. The requests for an administrative review of the companies identified in Appendix III were timely withdrawn within 90 days of the publication of the initiation notice for this review.⁴ As a result, Commerce is rescinding this review with respect to the companies in Appendix III in accordance with 19 CFR 351.213(d)(1).⁵

⁴ See Petitioner's Letter, “Partial Withdrawal of Request for Administrative Review,” dated May 17, 2023.

⁵ Appendix III identifies all companies on which we have rescinded this review.

Additionally, pursuant to 19 CFR 351.213(d)(3), Commerce will rescind an administrative review when there are no entries of subject merchandise during the POR for which liquidation is suspended. Normally, upon completion of an administrative review, the suspended entries are liquidated at the antidumping duty assessment rate calculated for the review period.⁶ Therefore, for an administrative review of a company to be conducted, there must be a suspended entry that Commerce can instruct and U.S. Customs and Border Protection (CBP) to liquidate at the antidumping duty assessment rate calculated for the POR.⁷ In the Preliminary Results, we notified parties of our intent to rescind this administrative review, in part, with respect to Smartlam LLC because there were no suspended entries of subject merchandise produced or exported by these companies during the POR and invited interested parties to comment. No parties commented on our intent to rescind the review, in part. In the absence of any suspended entries of subject merchandise from Smartlam LLC during the POR, or any comment on this issue, we are rescinding the administrative review for Smartlam LLC, in accordance with 19 CFR 351.213(d)(3).⁸

⁶ See 19 CFR 351.212(b)(1).

⁷ See, e.g., Shanghai Sunbeauty Trading Co. v. United States, 380 F. Supp. 3d 1328, 1335-36 (CIT 2019), at 12 (referring to section 751(a) of the Act, the U.S. Court of International Trade held that: “While the statute does not explicitly require that an entry be suspended as a prerequisite for establishing entitlement to a review, it does explicitly state the determined rate will be used as the liquidation rate for the reviewed entries. This result can only obtain if the liquidation of entries has been suspended . . .”; see also Certain Frozen Fish Fillets from the Socialist Republic of Vietnam: Final Results of Antidumping Duty Administrative Review and Final Determination of No Shipments; 2018-2019, 86 FR 36102, and accompanying Issues and Decision Memorandum at Comment 4; and Solid Fertilizer Grade Ammonium Nitrate from the Russian Federation: Notice of Rescission of Antidumping Duty Administrative Review, 77 FR 65532 (October 29, 2012) (noting that “for an administrative review to be conducted, there must be a reviewable, suspended entry to be liquidated at the newly calculated assessment rate”).

⁸ Appendix III identifies all companies on which we have rescinded this review.

Analysis of Comments Received

All issues raised in the case briefs filed in this administrative review are addressed in the Issues and Decision Memorandum. A list of the topics discussed in the Issues and Decision Memorandum is included in Appendix I of this notice. The Issues and Decision Memorandum is a public document and is available electronically via Enforcement and Compliance's Antidumping and Countervailing Duty Centralized Electronic Services System (ACCESS). ACCESS is available to registered users at https://access.trade.gov. In addition, a complete version of the Issues and Decision Memorandum is also accessible on the internet at https://access.trade.gov/public/FRNoticesListLayout.aspx.

Changes Since the Preliminary Results

Based on our review of the record and comments received from interested parties, we rescinded this review with regard to 66 companies for which all review requests were withdrawn, and have rescinded the review of Smartlam LLC, as we stated was our intent in the Preliminary Results. In addition, we revised the names of certain respondents as identified in the Preliminary Results, and made certain changes to the dumping margin calculations for Canfor and West Fraser. For a discussion of these changes, see the Issues and Decision Memorandum.

Rate for Non-Selected Companies

Generally, when calculating margins for non-selected respondents, Commerce looks to section 735(c)(5) of the Act for guidance, which provides instructions for calculating the all-others rate in an investigation. Section 735(c)(5)(A) of the Act provides that when calculating the all-others rate, Commerce will exclude any zero and de minimis weighted-average dumping margins, as well as any weighted-average dumping margins based on total facts available. Accordingly, Commerce's usual practice has been to average the margins for selected respondents, excluding margins that are zero, de minimis, or based entirely on facts available.

In this review, we calculated a weighted-average dumping margin of 10.44 percent for Canfor and 5.32 percent for West Fraser. In accordance with section 735(c)(5)(A) of the Act, Commerce assigned the weighted-average of these two calculated weighted-average dumping margins to the non-selected companies in these final results, based on their publicly ranged sales data.⁹ Accordingly, we have applied a rate of 7.80 percent to the non-selected companies.¹⁰ A list of all non-selected companies is included in Appendix II.

⁹ See Memorandum, “Calculation of the Rate for Non-Selected Respondents,” dated concurrently with this notice. A list of the non-selected companies under review is included as Appendix II.

¹⁰ Id.

Final Results of Review

As a result of this administrative review, we are assigning the following weighted-average dumping margins to the manufacturers/exporters listed below for the POR, January 1, 2022, through December 31, 2022:

Exporter/producer | Weighted-average dumping margin (percent)
Canfor Corporation/Canadian Forest Products Ltd./Canfor Wood Products Marketing Ltd./Canfor Fox Creek Ltd./Canfor Whitecourt Ltd. | 10.44
West Fraser Mills Ltd./Blue Ridge Lumber Inc./Manning Forest Products Ltd./Sundre Forest Products Inc. | 5.32
Non-Selected Companies ¹¹ | 7.80

Assessment Rates

Pursuant to section 751(a)(2)(C) of the Act and 19 CFR 351.212(b)(1), Commerce shall determine, and U.S. Customs and Border Protection (CBP) shall assess, antidumping duties on all appropriate entries of subject merchandise in accordance with the final results of this review.

¹¹ See Appendix II of this notice for a list of the non-selected respondent companies.

We intend to calculate importer- (or customer-) specific assessment rates on the basis of the ratio of the total amount of antidumping duties calculated for each importer's (or customer's) examined sales and the total entered value of the sales in accordance with 19 CFR 351.212(b)(1). Where an importer- (or customer-) specific rate is zero or de minimis within the meaning of 19 CFR 351.106(c)(1), we will instruct CBP to liquidate the appropriate entries without regard to antidumping duties.

Commerce's “reseller policy” will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.¹²

¹² For a full discussion of this practice, see Antidumping and Countervailing Duty Proceedings: Assessment of Antidumping Duties, 68 FR 23954 (May 6, 2003).

The final results of this administrative review shall be the basis for the assessment of antidumping duties on entries of merchandise under review and for future cash deposits of estimated duties, where applicable. Commerce intends to issue assessment instructions to CBP no earlier than 41 days after the date of publication of the final results of this review in the Federal Register, in accordance with 19 CFR 356.8(a).

Cash Deposit Requirements

The following cash deposit requirements will be effective for all shipments of subject merchandise entered, or withdrawn from warehouse, for consumption on or after the publication date of these final results, as provided by section 751(a)(2)(C) of the Act: (1) the cash deposit rate for the companies under review will be equal to the weighted-average dumping margin listed above in the “Final Results of Review” section; (2) for merchandise exported by producers or exporters not covered in this review but covered in a previously completed segment of this proceeding, the cash deposit rate will continue to be the company-specific rate published in the final results for the most recent period in which that producer or exporter participated; (3) if the exporter is not a firm covered in this review or in any previous segment of this proceeding, but the producer is, then the cash deposit rate will be that established for the producer of the merchandise in these final results of review or in the final results for the most recent period in which that producer participated; and (4) if neither the exporter nor the producer is a firm covered in this review or in any previously completed segment of this proceeding, then the cash deposit rate will be 6.04 percent ad valorem, the all-others rate established in the less than fair value investigation.¹³ These cash deposit requirements, when imposed, shall remain in effect until further notice.

¹³ See Certain Softwood Lumber Products from Canada: Final Affirmative Determination of Sales at Less Than Fair Value and Affirmative Final Determination of Critical Circumstances, 82 FR 51806 (November 8, 2017).

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of doubled antidumping duties, and/or an increase in the amount of antidumping duties by the amount of countervailing duties.

Administrative Protective Order

This notice is the only reminder to parties subject to the administrative protective order (APO) of their responsibility concerning the return or destruction of proprietary information disclosed under the APO in accordance with 19 CFR 351.305(a)(3), which continues to govern business proprietary information in this segment of the proceeding. Timely written notification of the return or destruction of APO materials, or conversion to judicial protective order, is hereby requested. Failure to comply with the regulations and the terms of an APO is a violation subject to sanction.

Notification to Interested Parties

We are issuing and publishing these final results and this notice in accordance with sections 751(a)(1) and 777(i)(1) of the Act, and 19 CFR 351.213(h).

Dated: August 12, 2024.
Ryan Majerus,
Deputy Assistant Secretary for Policy and Negotiations, performing the non-exclusive functions and duties of the Assistant Secretary for Enforcement and Compliance.

Appendix I

List of Topics Discussed in the Issues and Decision Memorandum

I. Summary

II. Background

III. Scope of the Order

IV. Changes Since the Preliminary Results

V. Discussion of the Issues

Comment 1: Whether Commerce Used the Proper Market Price for Canfor's Wood Chip Sales

Comment 2: Whether Commerce Should Adjust the Reported Cost of Electricity at Canfor's Grand Prairie (PG) Sawmill

Comment 3: Whether Commerce Should Adjust the Reported Cost of Electricity at Canfor's Prince George Sawmill

Comment 4: Whether Commerce Properly Determined Canfor's General and Administrative (G&A) Expense Ratio

Comment 5: Whether Commerce Should Apply the Transactions Disregarded Provision to Canfor's Transactions With Affiliated Seed Suppliers

Comment 6: Whether Commerce Should Include Restructuring Costs Associated with the Mackenzie Mill

Comment 7: Whether Commerce Should Include Devaluation Losses in Canfor's G&A Calculation

Comment 8: Whether Commerce Should Deduct Countervailing Duties (CVD) from U.S. Price

Comment 9: Whether Commerce Should Rescind the Review of Companies for which all Review Requests Were Withdrawn

Comment 10: Whether Commerce Should Revise the Names of Certain Respondents

Comment 11: Whether Commerce Should Revise the Application of West Fraser's By-Product Offset

Comment 12: Whether Commerce Should Adjust West Fraser's Log Prices

Comment 13: Whether Commerce Should Adjust West Fraser's G&A Expenses for Inventory Valuation Loss

Comment 14: Whether Commerce Double Counted Billing Adjustments

Comment 15: Whether Commerce Correctly Applied Surrogate Costs

Comment 16: Whether Commerce's Application of the Differential Pricing Analysis Is Contrary to Law and in Violation of the Assumptions Articulated in Stupp

Comment 17: Whether West Fraser's Pricing Over the POR Was Inconsistent with the Targeted Dumping for Which Congress Authorized Commerce to Utilize the Average-to-Transaction (A-T) Method

Comment 18: Whether Commerce Improperly Applied the A-T Methodology with Zeroing

Comment 19: Whether Commerce Properly Applied its Differential Pricing Methodology to Address Targeted Dumping

Comment 20: Whether Commerce's Use of Simple Average Standard Deviations in the Cohen's d Denominator Disregards Comparative Sizes of Test and Control Groups

Comment 21: Whether Commerce's Methodology and Explanation for Calculating the Denominator of the d Coefficient Are Unreasonable

Comment 22: Whether Commerce Erred in Finding a Pattern of U.S. Prices That Differ Significantly Among Purchasers, Regions, or Periods of Time

Comment 23: Whether Commerce Failed to Consider Qualitative Factors in Determining Whether Prices Were Significant

VI. Recommendation

Appendix II

Non-Selected Exporters/Producers

1. 0752615 B.C Ltd; Fraserview Remanufacturing Inc; Fraserview Cedar Products ¹⁴

¹⁴ “DBA” has been removed from the name 0752615 B.C Ltd; Fraserview Remanufacturing Inc; DBA Fraserview Cedar Products referred to in the Preliminary Results, at the request of CBP. See Issues and Decision Memorandum at Comment 10.

2. 10104704 Manitoba Ltd.; Woodstock Forest Products ¹⁵

¹⁵ “O/A” has been removed from the name 10104704 Manitoba Ltd O/A Woodstock Forest Product referred to in the Preliminary Results, at the request of CBP. See Issues and Decision Memorandum at Comment 10.

3. 1074712 BC Ltd.; Quadra Cedar

4. 5214875 Manitoba Ltd.

5. Absolute Lumber Products Ltd.

6. Adwood Manufacturing Ltd.

7. AJ Forest Products Ltd.

8. Aler Forest Products Ltd.

9. Alpa Lumber Mills Inc.

10. Andersen Pacific Forest Products Ltd.

11. Antrim Cedar Corporation

12. Aquila Cedar Products Ltd.

13. Arbec Lumber Inc.; Arbec Bois Doeuvre Inc.

14. Aspen Pacific Industries Inc.

15. Aspen Planers Ltd.

16. B&L Forest Products Ltd.

17. B.B. Pallets Inc.; Les Palettes B.B.Inc.

18. Babine Forest Products Limited

19. Bakerview Forest Products Inc.

20. Barrette-Chapais Ltee

21. BarretteWood Inc.

22. Benoît & Dionne Produits Forestiers Ltee; Benoît & Dionne Forest Products Ltd.

23. Blanchet Multi Concept Inc.

24. Blanchette & Blanchette Inc.

25. Bois Aise de Montreal Inc.

26. Bois Bonsaï Inc.

27. Bois Daaquam Inc.; Daaquam Lumber Inc.

28. Bois D'oeuvre Cedrico Inc.; Cedrico Lumber Inc.

29. Bois et Solutions Marketing SPEC, Inc.; SPEC Wood & Marketing Solution; SPEC Wood and Marketing Solutions Inc.

30. Bois Weedon Inc.

31. Boisaco Inc.

32. Boscus Canada Inc.

33. Boucher Bros. Lumber Ltd.

34. BPWood Ltd.

35. Bramwood Forest Inc.

36. Brink Forest Products Ltd.

37. Brunswick Valley Lumber Inc.

38. Burrows Lumber (CD) Ltd., Theo A. Burrows Lumber Company Limited

39. Busque & Laflamme Inc.

40. Canadian Bavarian Millwork & Lumber Ltd.

41. Canyon Lumber Company Ltd.

42. Carrier & Begin Inc.

43. Carrier Forest Products Ltd.

44. Carrier Lumber Ltd.

45. Carter Forest Products Inc.

46. Cedarland Forest Products Ltd.

47. Cedarline Industries Ltd.

48. Central Alberta Pallet Supply

49. Central Cedar Ltd.

50. Central Forest Products Inc.

51. Centurion Lumber Ltd.

52. Chaleur Forest Products Inc.

53. Chaleur Forest Products LP

54. Channel-ex Trading Corporation

55. Clair Industrial Development Corp. Ltd.

56. Clermond Hamel Ltee

57. CLG Enterprises Inc.

58. Columbia River Shake & Shingle Ltd.; Teal Cedar Products Ltd.; ¹⁶ The Teal Jones Group ¹⁷

¹⁶ “DBA” has been removed from the name Columbia River Shake & Shingle Ltd./Teal Cedar Products Ltd., DBA the Teal Jones Group referred to in the Preliminary Results at the request of CBP. See Issues and Decision Memorandum at Comment 10.

¹⁷ Because we are now treating the three companies as one entity for customs purposes, we have removed from the Automated Commercial Environment (ACE) module case number individual company case numbers for Teal Cedar Products Ltd. (A-122-857-224) and The Teal Jones Group (A-122-857-227) and have instructed CBP to enter all entries for all three companies under the ACE module case number A-122-857-349.

59. Commonwealth Plywood Co. Ltd.

60. Conifex Fibre Marketing Inc.

61. Coulson Manufacturing Ltd.

62. Cowichan Lumber Ltd.

63. CS Manufacturing Inc.; Cedarshed ¹⁸

¹⁸ “dba” has been removed from the name CS Manufacturing Inc. (dba Cedarshed) referred to in the Preliminary Results at the request of CBP. See Issues and Decision Memorandum at Comment 10.

64. CWP—Industriel Inc.

65. D & D Pallets Ltd.

66. Dakeryn Industries Ltd.

67. Decker Lake Forest Products Ltd.

68. Deep Cove Forest Products, Inc.

69. Delco Forest Products Ltd.

70. Delta Cedar Specialties Ltd.

71. Devon Lumber Co. Ltd.

72. Doubletree Forest Products Ltd.

73. Downie Timber Ltd.

74. Dunkley Lumber Ltd.

75. EACOM Timber Corporation

76. East Fraser Fiber Co. Ltd.

77. Edgewood Forest Products Inc.

78. ER Probyn Export Ltd.

79. Falcon Lumber Ltd.

80. Fontaine Inc.

81. Foothills Forest Products Inc.

82. Forest Products Mauricie LP; Societe en commandite Scierie Opitciwan; Resolute Growth Canada Inc.; Resolute FP Canada Inc.; Resolute-LP Engineered Wood Larouche Inc.; Resolute-LP Engineered Wood St-Prime Limited Partnership

83. Fort St. James Forest Products Limited Partnership

84. Fraser Specialty Products Ltd.

85. FraserWood Industries Ltd.

86. Furtado Forest Products Ltd.

87. Galloway Lumber Company Ltd.

88. Goldwood Industries Ltd.

89. Goodfellow Inc.

90. Gorman Bros. Lumber Ltd.

91. Greendale Industries Inc.

92. GreenFirst Forest Products (QC) Inc.

93. Greenwell Resources Inc.

94. Griff Building Supplies Ltd.

95. Groupe Crete Chertsey Inc.

96. Groupe Crete Division St-Faustin Inc.

97. Groupe Lebel Inc.

98. H.J. Crabbe & Sons Ltd.

99. Haida Forest Products Ltd.

100. Halo Sawmill, a division of Delta Cedar Specialties Ltd.; Halo Sawmill Manufacturing Limited Partnership

101. Hampton Tree Farms, LLC; Hampton Lumber Sales Canada ¹⁹

¹⁹ “dba” has been removed from the name Hampton Tree Farms, LLC (dba Hampton Lumber Sales Canada) referred to in the Preliminary Results at the request of CBP. See Issues and Decision Memorandum at Comment 10.

102. Hornepayne Lumber LP

103. Hy Mark Wood Products Inc.

104. Independent Building Materials Distribution Inc.

105. Interfor Corporation; Interfor Sales & Marketing Ltd.²⁰

²⁰ In Softwood Lumber from Canada AR4, we determined that it was appropriate to threat Interfor Corporation and Interfor Sales & Marketing Ltd. as one entity. See Certain Softwood Lumber Products from Canada: Final Results of Antidumping Duty Administrative Review and Final Determination of No Shipments; 2021, 88 FR 50106 (August 1, 2023) (Softwood Lumber from Canada AR4), at Appendix II. Thus, we have removed from the ACE module case number for Interfor Sales & Marketing Ltd. (A-122-857-299) and have instructed CBP to enter all entries for Interfor Corporation and Interfor Sales & Marketing Ltd. under the ACE module case number for Interfor Corporation and Interfor Sales & Marketing Ltd. (A-122-857-118)

106. Ivor Forest Products Ltd.

107. J&G Log Works Ltd.

108. J.D. Irving, Limited

109. J.H. Huscroft Ltd.

110. Jan Woodlands (2001) Inc.

111. Jasco Forest Products Ltd.

112. Jazz Forest Products Ltd.

113. Jhajj Lumber Corporation

114. Kalesnikoff Lumber Co. Ltd.

115. Kan Wood Ltd.

116. Kebois Ltee; Kebois Ltd.

117. Kelfor Industries Ltd.

118. Kermode Forest Products Ltd.

119. Keystone Timber Ltd.

120. La Crete Sawmills Ltd.

121. Lafontaine Lumber Inc.

122. Langevin Forest Products Inc.

123. Lecours Lumber Co. Limited

124. Leisure Lumber Ltd.

125. Les Bois d'oeuvre Beaudoin Gauthier Inc.

126. Les Bois Martek Lumber

127. Les Chantiers de Chibougamau Ltee; Les Chantiers de Chibougamau Ltd.

128. Les Industries P.F. Inc.

129. Les Produits Forestiers D&G Ltee; D&G Forest Products Ltd.

130. Leslie Forest Products Ltd.

131. Lignum Forest Products LLP

132. Linwood Homes Ltd.

133. Lonestar Lumber lnc.

134. Lulumco Inc.

135. Madera Forest Products INC

136. Magnum Forest Products Ltd.

137. Maibec Inc.

138. Manitou Forest Products Ltd.

139. Marcel Lauzon Inc.

140. Marwood Ltd.

141. Materiaux Blanchet Inc.

142. Mid Valley Lumber Specialties Ltd.

143. Midway Lumber Mills Ltd.

144. Mill & Timber Products Ltd.

145. Millar Western Forest Products Ltd.

146. Mirax Lumber Products Ltd.

147. Mobilier Rustique (Beauce) Inc.

148. Monterra Lumber Mills Limited

149. Morwood Forest Products Inc.

150. Multicedre Ltee

151. Murray Brothers Lumber Company Ltd.

152. Nakina Lumber Inc.

153. National Forest Products Ltd.

154. Nicholson and Cates Ltd.

155. Norsask Forest Products Inc.

156. Norsask Forest Products Limited Partnership

157. North American Forest Products Ltd. (located in Abbotsford, British Columbia)

158. North American Forest Products Ltd. (located in Saint-Quentin, New Brunswick)

159. North Enderby Timber Ltd.

160. Northland Forest Products Ltd.

161. Oakwood Manufacturing A Division of Weston Forest Products Inc.

162. Olympic Industries Inc.

163. Olympic Industries ULC

164. Oregon Canadian Forest Products; Oregon Canadian Forest Products Inc.

165. Pacific NorthWest Lumber Ltd.

166. Pacific Western Wood Works Ltd.

167. PalletSource Inc.

168. Parallel Wood Products Ltd.

169. Partap Forest Products Ltd.

170. Partap Industries

171. Peak Industries (Cranbrook) Ltd.

172. Phoenix Forest Products Inc.

173. Pine Ideas Ltd.

174. Pioneer Pallet & Lumber Ltd.

175. Porcupine Wood Products Ltd.

176. Portbec Forest Products Ltd.; Les Produits Forestiers Portbec Ltee

177. Power Wood Corp.

178. Precision Cedar Products Corp.

179. Produits Forestiers Petit Paris Inc.

180. Produits Matra Inc.

181. Promobois G.D.S. Inc.

182. R.A. Green Lumber Ltd.

183. Rembos Inc.

184. Rene Bernard Inc.

185. Rielly Industrial Lumber Inc.

186. River City Remanufacturing Inc.

187. S&R Sawmills Ltd.

188. San Group

189. San Industries Ltd.

190. Sawarne Lumber Co. Ltd.

191. Scierie Alexandre Lemay & Fils Inc.

192. Scierie St-Michel Inc.

193. Scierie West Brome Inc.

194. Scott Lumber Sales; Scott Lumber Sales Ltd.

195. Sechoirs de Beauce Inc.

196. Shakertown Corp.

197. Sigurdson Forest Products Ltd.

198. Silvaris Corporation

199. Sinclar Group Forest Products Ltd.

200. Skana Forest Products Ltd.

201. Skeena Sawmills Ltd.

202. Smart Wood Forest Products Ltd.

203. South Beach Trading Inc.

204. Specialiste du Bardeau de Cedre Inc.; Specialiste du Bardeau de Cedre Inc. (SBC)

205. Spruceland Millworks Inc.

206. Suncoast Industries Inc.

207. Sundher Timber Products Inc.

208. Surrey Cedar Ltd.

209. T.G. Wood Products Ltd.²¹

²¹ The ACE module contains separate case numbers for T.G. Wood Products Ltd. (A-122-857-220) and TG Wood Products (A-122-857-360), which was caused by data entry errors and we have never treated T.G. Wood Products and TG Wood Products as separate companies; rather we named T.G. Wood Products Ltd. as the sole respondent in the first and second administrative reviews of this proceeding and TG Wood Products. See Certain Softwood Lumber Products from Canada: Final Results of Antidumping Duty Administrative Review; 2017-2018, 85 FR 76519 (November 30, 2020); Certain Softwood Lumber Products from Canada: Final Results of Antidumping Duty Administrative Review; 2019, 86 FR 68471 (December 2, 2021); and Softwood Lumber from Canada AR4. We have removed TG Wood Products (A-122-857-360) from the module and instructed CBP to enter all entries under the case number A-122-857-220.

210. Taan Forest Limited Partnership; Taan Forest Products ²²

²² “aka” has been removed from the name Taan Forest Limited Partnership (aka Taan Forest Products) referred to in at the request of CBP. See Issues and Decision Memorandum at Comment 10.

211. Taiga Building Products Ltd.

212. Tall Tree Lumber Company

213. Tenryu Canada Corporation

214. Terminal Forest Products Ltd.

215. The Wood Source Inc.

216. Tolko Industries Ltd.; Tolko Marketing and Sales Ltd.; Gilbert Smith Forest Products Ltd.

217. Top Quality Lumber Ltd.

218. Trans-Pacific Trading Ltd.

219. Triad Forest Products Ltd.

220. Twin Rivers Paper Co. Inc.

221. Tyee Timber Products Ltd.

222. Universal Lumber Sales Ltd.

223. Usine Sartigan Inc.

224. Vaagen Fibre Canada ULC

225. Vancouver Specialty Cedar Products Ltd.

226. Vanderhoof Specialty Wood Products Ltd.

227. Vanderwell Contractors (1971) Ltd.

228. Visscher Lumber Inc.

229. W.I. Woodtone Industries Inc.

230. Waldun Forest Product Sales Ltd.

231. West Bay Forest Products Ltd.

232. West Coast Panel Cutters

233. Western Forest Products Inc.

234. Western Lumber Sales Limited

235. Westminster Industries Ltd.

236. Weston Forest Products Inc.

237. Westrend Exteriors Inc

238. Weyerhaeuser Co.

239. White River Forest Products L.P.

240. Woodline Forest Products Ltd.

241. Woodtone Specialties Inc.

Appendix III

List of Companies Rescinded From the Review

1. 54 Reman

2. 9224-5737 Quebec Inc.; A.G. Bois ²³

²³ “aka” has been removed from the name 224-5737 Quebec Inc. (aka A.G. Bois) referred to in the Preliminary Results, at the request of CBP. See Issues and Decision Memorandum at Comment 10.

3. AA Trading Ltd.

4. All American Forest Products Inc.

5. Anglo American Cedar Products Ltd.; Anglo-American Cedar Products Ltd.

6. Bardobec Inc.

7. Best Quality Cedar Products Ltd.

8. Campbell River Shake & Shingle Co. Ltd.

9. Canada Pallet Corp.

10. Canasia Forest Industries Ltd.

11. Careau Bois inc.

12. CarlWood Lumber Ltd.²⁴

²⁴ CarlWood Lumber Ltd. is referred to in the ACE module as Carl Wood Lumber Ltd.

13. Cedar Island Forest Products Ltd.

14. Cedar Valley Holdings Ltd.

15. Cedarcoast Lumber Products

16. CHAP Alliance, Inc.

17. CNH Products Inc.

18. Coast Clear Wood Ltd.

19. Coast Mountain Cedar Products Ltd.

20. Comox Valley Shakes Ltd. (2019); Comox Valley Shakes (2019) Ltd.²⁵

²⁵ “AKA” has been removed from the name Comox Valley Shakes Ltd. (2019); AKA Comox Valley Shakes (2019) Ltd. referred to in the Preliminary Results, at the request of CBP. See Issues and Decision Memorandum at Comment 10.

21. CWP—Montreal Inc.

22. DH Manufacturing Inc.

23. Direct Cedar Supplies Ltd.

24. Distribution Rioux Inc.

25. Elrod Cartage Ltd.

26. Glandell Enterprises Inc.

27. Goldband Shake & Shingle Ltd.

28. GreenFirst Forest Products Inc.

29. Groupe Lignarex Inc.

30. Hudson Mitchell & Sons Lumber Inc.

31. Imperial Cedar Products Ltd.

32. Intertran Holdings Ltd.; Richmond Terminal ²⁶

²⁶ “dba” has been removed from the name Intertran Holdings Ltd. (dba Richmond Terminal) referred to in the Preliminary Results at the request of CBP. See Issues and Decision Memorandum at Comment 10.

33. Island Cedar Products Ltd.

34. Les Bardeaux Lajoie Inc.

35. Les Bois Traites M.G. Inc.

36. Les Produits Forestiers Sitka Inc.; Sitka Forest Products Inc.²⁷

²⁷ “aka” has been removed from the name Les Produits Forestiers Sitka Inc. (aka Sitka Forest Products Inc.) referred to in the Preliminary Results, at the request of CBP. See Issues and Decision Memorandum at Comment 10.

37. Lumber Assets Holding LP

38. Mainland Sawmill, a division of Terminal Forest Products

39. Metrie Canada Ltd.

40. Modern Terminal Ltd.

41. Nagaard Sawmill Ltd.

42. Nickel Lake Lumber

43. NSC Lumber Ltd.

44. Pacific Coast Cedar Products Ltd.

45. Pacific Lumber Remanufacturing Inc.

46. Pacific Pallet Ltd.

47. Pat Power Forest Products Corporation

48. Rick Dubois

49. S&W Forest Products Ltd.

50. Sapphire Lumber Company

51. Smartlam LLC

52. Sonora Logging Ltd.

53. Source Forest Products

54. South Coast Reman Ltd.; Southcoast Millwork Ltd.

55. South Fraser Container Terminals

56. Star Lumber Canada Ltd.

57. Suncoh Custom Lumber Ltd.

58. Surplus G Rioux

59. Swiftwood Forest Products Ltd.

60. T&P Trucking Ltd.

61. Temrex Forest Products LP; Produits Forestiers Temrex SEC.

62. Valley Cedar 2 Inc.

63. Watkins Sawmills Ltd.

64. Western Timber Products, Inc.

65. Winton Homes Ltd.

66. Woodstock Forest Products

67. WWW Timber Products Ltd.

[FR Doc. 2024-18443 Filed 8-16-24; 8:45 am]

BILLING CODE 3510-DS-P